DEPARTMENT OF JUSTICE

Notice of Lodging of Consent Decree Under the Comprehensive Environmental Response, Compensation and Liability Act of 1980

Notice is hereby given that on February 27, 2004, a proposed consent decree (“decree”) in United States v. Dan and Harriet Alexander, et al., Civil Action No. C02-5269RJB, was lodged with the United States District Court for the Western District of Washington.

In this action the United States sought recovery of response costs under section 107 of the Comprehensive Environmental Response, Compensation and Liability Act of 1980, 42 U.S.C. 9607, for costs incurred by the United States in connection with the Alexander Farms Superfund Site located in Grandview, Washington. Under the decree, defendants Dan and Harriet Alexander will reimburse the United States $3.55 million in past costs and receive a covenant not to sue for costs through October 31, 2003. Through the end of October 2003, the United States has expended approximately $4.0 million at the Site, inclusive of $543,000 in DOJ costs and $309,988 interest. The recovery of $3.55 million represents approximately 96% of past costs, exclusive of interest.

The Department of Justice (“DOJ”) will receive for a period of thirty (30) days from the date of this publication comments relating to the decree. Comments should be addressed to the Assistant Attorney General, Environment and Natural Resources Division, P.O. Box 7611, U.S. Department of Justice, Washington, DC 20044-7611, and should refer to United States v. Dan and Harriet Alexander, et al., D.J. Ref. 90-11-2-07580.

The decree may be examined at the Office of the United States Attorney, Western District of Washington, 601 Union Street, 50100 Two Union Square, Seattle, Washington 98101-3903, and at U.S. EPA Region X, U.S. Environmental Protection Agency, 1200 Sixth Avenue, Seattle, Washington 98101. During the public comment period, the decree may also be examined on the following DOJ Web site http://www.usdoj.gov/enrd/open.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.50 (25 cents per page reproduction cost) payable to the U.S. Treasury.

Robert Maher,
Assistant Chief, Environmental, Enforcement Section, Environment and Natural Resources Division.

[FR Doc. 04-5420 Filed 3-10-04; 8:45 am]

BILLING CODE 4410-15-M